AMTRAK REFORM COUNCIL

Notice of Meeting

AGENCY: Amtrak Reform Council.

ACTION: Notice of special public business meeting in St. Louis, Missouri.

SUMMARY: As provided in section 203 of the Amtrak Reform and Accountability Act of 1997 (Reform Act), the Amtrak Reform Council (Council) gives notice of a special public meeting of the Council. On July 26, 2001, the Council will hold a Business Meeting 3:30 p.m.-5:30 p.m. (central time) during which time the Council members will discuss general Council business. The following day, July 27, 2001, the Council will hold a formal Hearing inviting states from the Midwest and South Central region of the U.S. to testify before the Council regarding the issues raised in the Council's Second Annual Report published in March 2001. The Hearing will be held from 9:30 a.m. to 2 p.m. (central time).

DATES: The Business Meeting will be held on Thursday, July 26, 2001, from 3:30 p.m. to 5:30 p.m. (central time). The Hearing will be held on Friday, July 27, 2001, from 9:30 a.m. to 2:00 p.m. (central time). Both events are open to the public.

ADDRESSES: Both the Business Meeting and the Hearing will take place in the New York Central Room at the Hyatt Regency St. Louis at One St. Louis Union Station, St. Louis, MO 63103. Persons in need of special arrangements should contact the person listed below.

FOR FURTHER INFORMATION CONTACT: Deirdre O'Sullivan, Amtrak Reform Council, Room 7105, JM-ARC, 400 Seventh Street, SW., Washington, DC 20590, or by telephone at (202) 366-0591; FAX: 202-493-2061. For information regarding ARC's upcoming events, the agenda for meetings, the ARC's Second Annual Report, information about ARC Council Members and staff, and much more, you can also visit the Council's website at www.amtrakreformcouncil.gov.

The next Council meetings will be held on Thursday, September 20, 2001, in Los Angeles, CA and on Thursday, October 11, 2001, in Atlanta, GA.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC, July 23, 2001.
Thomas A. Till,
Executive Director.

[FR Doc. 01-18736 Filed 7-24-01; 10:30 am]

BILLING CODE 4910-06-P